TENNESSEE VALLEY AUTHORITY

Final Supplemental Environmental Impact Statement, Single Nuclear Unit at the Bellefonte Plant Site, Jackson County, AL

AGENCY: Tennessee Valley Authority (TVA).

ACTION: Notice; correction.

SUMMARY: TVA published a record of decision (ROD) for the Final Supplemental Environmental Impact Statement for a Single Nuclear Unit at the Bellefonte Plant Site (final SEIS) on September 9, 2010. The location of the proposed nuclear plant site was stated incorrectly in the heading of the ROD.

TVA prepared the final SEIS to update the extensive environmental information and analyses that exist respecting the Bellefonte site and the construction and operation of a nuclear power plant on that site. The ROD documents the August 20, 2010, TVA Board of Directors' (TVA Board) approval to spend $248 million for engineering, design, and licensing activities needed to maintain Unit 1 as a viable alternative to meet the projected need for base load generation on the TVA system in 2018-2020. Bellefonte Unit 1 is a partially completed 1,260-megawatt Babcock and Wilcox-designed pressurized light water reactor. It is anticipated that the TVA Board will be asked to approve completion and operation of Unit 1 next year, depending on the results of a new TVA Integrated Resource Plan, which is scheduled for completion in spring 2011.

FOR FURTHER INFORMATION CONTACT:

Ruth Horton, Senior NEPA Specialist, Environmental Permits and Compliance, Tennessee Valley Authority, 400 West Summit Hill Drive, WT 11D, Knoxville, Tennessee 37902-1499; telephone (865) 632-3719 or e-mail blnp@tva.gov. Thomas Spink, Bellefonte AP1000 Licensing Manager, Nuclear Generation Development and Construction, Tennessee Valley Authority, 1101 Market Street, LP 5A, Chattanooga, Tennessee 37402-2801; telephone (423) 751-7062 or e-mail tespink@tva.gov.

Correction

In the Federal Register of September 9, 2010, in FR Doc. 2010-22413, on page 54961, in first column, correct the “heading” to read:

Final Supplemental Environmental Impact Statement, Single Nuclear Unit at the Bellefonte Plant Site, Jackson County, Alabama.

Dated: September 28, 2010.
Ashok S. Bhatnagar,
Senior Vice President, Nuclear Generation Development and Construction.

[FR Doc. 2010-26820 Filed 10-22-10; 8:45 am]

BILLING CODE 8120-08-P